ENVIRONMENTAL PROTECTION AGENCY

[RCRA-2002-0022; FRL-7433-2]

Agency Information Collection Activities; Submission of EPA ICR No. 2076.01 to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: National Waste Minimization Partnership Program, EPA ICR No. 2076.01. The ICR, which is abstracted below, describes the nature of the information collection and its estimated burden and cost.

DATES: Additional comments may be submitted on or before January 29, 2003.

ADDRESSES: Follow the detailed instructions in the SUPPLEMENTARY INFORMATION section.

FOR FURTHER INFORMATION CONTACT: Newman Smith, Office of Solid Waste, mailcode 5302W, Environmental Protection Agency, 1200 Pennsylvania Ave., NW., Washington, DC 20460; telephone number: 703-308-8757; fax number: 703-308-8433; e-mail address: smith.newman@epa.gov.

SUPPLEMENTARY INFORMATION: EPA has submitted the following ICR to OMB for review and approval according to the procedures prescribed in 5 CFR 1320.12. On June 21, 2002 (67 FR 42251), EPA sought comments on this ICR pursuant to 5 CFR 1320.8(d). EPA received no comments.

EPA has established a public docket for this ICR under Docket ID No. RCRA-2002-0022, which is available for public viewing at the RCRA Docket in the EPA Docket Center (EPA/DC), EPA West, Room B102, 1301 Constitution Ave., NW, Washington, DC. The EPA Docket Center Public Reading Room is open from 8:30 a.m. to 4:30 p.m., Monday through Friday, excluding legal holidays. The telephone number for the Public Reading Room is (202) 566-1744, and the telephone number for the RCRA Docket is (202) 566-0270. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to RCRA-docket@epa.gov, or by mail to: RCRA Docket in the EPA Docket Center, (mailcode 5305T) EPA West Basement, Room B102, 1301 Constitution Ave., NW., Washington, DC 20460; and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov./edocket.

Title: Reporting and Recordkeeping Requirements under EPA's National Waste Minimization Partnership Program (EPA ICR Number 2076.01). This is a request for a new collection. Under the OMB regulations, the Agency may continue to conduct or sponsor the collection of information while this submission is pending at OMB.

Affected Entities: Any generator, treater, storer, and/or disposer of RCRA-regulated hazardous waste may participate in the National Waste Minimization Partnership Program.

Abstract: EPA is establishing a national program to encourage the minimization of hazardous waste through source reduction and recycling. Participation in the National Waste Minimization Partnership Program is completely voluntary. EPA will use two forms to collect information from participants, called partners, which can be prepared and submitted by hard copy or electronically. Participation begins when an Enrollment Form is submitted and received by EPA. The form asks for basic site identification information as well as information on the company's waste minimization goals under the program. Once in the program, partners can submit an optional Accomplishments Form when they have accomplished steps toward reaching the goal(s) established during their enrollment in the program. The Accomplishments Form asks for a description of the waste minimization accomplishment and whether the partner would like the information posted on the EPA Waste Minimization Program's website. Once the waste minimization goal(s) are reached, partners may choose to submit an optional, one-time Case Study. All Case Studies submitted will be available on EPA's National Waste Minimization Program website, and each will describe a partner's waste minimization techniques, implementation problems, lessons learned, benefits, and relevant implications. The authority under which the Agency will conduct the program is the Pollution Prevention Act of 1990, which directs EPA to “facilitate the adoption of source reduction techniques by businesses * * *, foster the exchange of information regarding source reduction techniques * * *, and [foster] the provision of technical assistance to businesses” (42 U.S.C. 13101).

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 14 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Generators, Storers, Treaters, and Disposers of RCRA Hazardous Waste.

Estimated Number of Respondents: 150.

Frequency of Response: One-time.

Estimated Total Annual Hour Burden: 3,235 hours.

Estimated Total Annual Cost: $200,633, includes no annualized capital or O&M costs.

Dated: December 19, 2002.
Oscar Morales,
Director, Collection Strategies Division.

[FR Doc. 02-32902 Filed 12-27-02; 8:45 am]

BILLING CODE 6560-50-P